DEPARTMENT OF THE TREASURY

Community Development Financial Institutions Fund

Open Meeting: Community Development Advisory Board

ACTION: Notice of open meeting.

SUMMARY: This notice announces an open meeting of the Community Development Advisory Board (the Advisory Board), which provides advice to the Director of the Community Development Financial Institutions Fund (CDFI Fund). The meeting will be open to the public who may either attend the meeting in-person or view it as a live webcast. The meeting will be held at the U.S. Department of the Treasury in a room that will accommodate up to 50 members of the public on a first-come, first-served basis. The link to the live webcast can be found in the meeting announcement found at the top of www.cdfifund.gov/cdab.

DATES: The meeting will be held from 9:00 a.m. to 2:00 p.m. Eastern Time on Thursday, August 23, 2018.

ADDRESSES: The Advisory Board meeting will be held in Media Rooms A & B (Rooms 4121 and 4125) at the U.S. Department of the Treasury located at 1500 Pennsylvania Avenue NW, Washington, DC 20220.

Submission of Written Statements: Participation in the discussions at the meeting will be limited to Advisory Board members, Department of the Treasury staff, and certain invited guests. Anyone who would like to have the Advisory Board consider a written statement must submit it by 5:00 p.m. Eastern Time on Tuesday, August 14, 2018. Send paper statements to Bill Luecht, Senior Advisor, Office of Legislative and External Affairs, CDFI Fund, 1500 Pennsylvania Avenue NW, Washington, DC 20220. Send electronic statements to AdvisoryBoard@cdfi.treas.gov.

In general, the CDFI Fund will make all statements available in their original format, including any business or personal information provided such as names, addresses, email addresses, or telephone numbers, for public inspection and photocopying at the CDFI Fund. The CDFI Fund is open on official business days between the hours of 9:00 a.m. and 5:00 p.m. Eastern Time. You can make an appointment to inspect statements by emailing AdvisoryBoard@cdfi.treas.gov. All statements received, including attachments and other supporting materials, are part of the public record and subject to public disclosure. You should only submit information that you wish to make publicly available.

FOR FURTHER INFORMATION CONTACT: Bill Luecht, Senior Advisor, Office of Legislative and External Affairs, CDFI Fund, 1500 Pennsylvania Avenue NW, Washington, DC 20220, (202) 653-0322 (this is not a toll free number) or AdvisoryBoard@cdfi.treas.gov. Other information regarding the CDFI Fund and its programs may be obtained through the CDFI Fund's website at http://www.cdfifund.gov.

SUPPLEMENTARY INFORMATION: Section 104(d) of the Riegle Community Development and Regulatory Improvement Act of 1994 (Pub. L. 103-325), which created the CDFI Fund, established the Advisory Board. The charter for the Advisory Board has been filed in accordance with the Federal Advisory Committee Act, as amended (5 U.S.C. App.), and with the approval of the Secretary of the Treasury.

The function of the Advisory Board is to advise the Director of the CDFI Fund (who has been delegated the authority to administer the CDFI Fund) on the policies regarding the activities of the CDFI Fund. The Advisory Board does not advise the CDFI Fund on approving or declining any particular application for monetary or non-monetary awards.

In accordance with section 10(a) of the Federal Advisory Committee Act, 5 U.S.C. App. 2 and the regulations thereunder, Bill Luecht, Designated Federal Officer of the Advisory Board, has ordered publication of this notice that the Advisory Board will convene an open meeting, which will be held in Media Rooms A & B (Rooms 4121 and 4125) at the U.S. Department of the Treasury located at 1500 Pennsylvania Avenue NW, Washington, DC 20220, from 9:00 a.m. to 2:00 p.m. Eastern Time on Thursday, August 23, 2018. The room will accommodate up to 50 members of the public on a first-come, first-served basis.

Because the meeting will be held in a secure federal building, members of the public who wish to attend the meeting must register in advance. The link to the online registration system can be found in the meeting announcement found at the top of www.cdfifund.gov/cdab. The registration deadline is 11:59 p.m. Eastern Time on Thursday, August 16, 2018. For entry into the building on the date of the meeting, each attendee must present his or her government issued ID, such as a driver's license or passport, which includes a photo.

The Advisory Board meeting will include a report from the CDFI Fund Director on the activities of the CDFI Fund since the last Advisory Board meeting and on Fiscal Year 2019 priorities, including discussion on the reexamination of CDFI Certification policies and maximizing impact in Persistent Poverty Counties.

Authority: 12 U.S.C. 4703.

Dennis E. Nolan,
Deputy Director, Community Development Financial Institutions Fund.

[FR Doc. 2018-16891 Filed 8-7-18; 8:45 am]

BILLING CODE 4810-70-P